OFFICE OF PERSONNEL MANAGEMENT

5 CFR Part 532

RIN 3206-AL43

Prevailing Rate Systems; Definition of the Municipality of Bayamon, Puerto Rico, to a Nonappropriated Fund Federal Wage System Wage Area

AGENCY: U.S. Office of Personnel Management.

ACTION: Interim rule with request for comments.

SUMMARY: The U.S. Office of Personnel Management is issuing an interim rule to define the municipality of Bayamon, Puerto Rico, as an area of application to the Guaynabo-San Juan, PR, nonappropriated fund (NAF) Federal Wage System (FWS) wage area. This change is necessary because there are NAF FWS employees working in the municipality of Bayamon and the municipality is not currently defined to an NAF wage area.

DATES: This regulation is effective on November 14, 2007. We must receive comments on or before December 14, 2007.

ADDRESSES: Send or deliver comments to Charles D. Grimes III, Deputy Associate Director for Performance and Pay Systems, Strategic Human Resources Policy Division, U.S. Office of Personnel Management, Room 7H31, 1900 E Street, NW., Washington, DC 20415-8200; e-mail pay-performance-policy@opm.gov; or Fax: (202) 606-4264.

FOR FURTHER INFORMATION CONTACT: Madeline Gonzalez, (202) 606-2838; e-mail pay-performance-policy@opm.gov; or Fax: (202) 606-4264.

SUPPLEMENTARY INFORMATION: The U.S. Office of Personnel Management (OPM) is redefining the Guaynabo-San Juan, Puerto Rico, nonappropriated fund (NAF) Federal Wage System (FWS) wage area to add the municipality of Bayamon, PR, as an area of application. Rio Bayamon Guest Housing, which is part of U.S. Coast Guard Family Housing, now employs three NAF FWS employees in the municipality of Bayamon. Under section 532.219 of title 5, Code of Federal Regulations, each NAF wage area “shall consist of one or more survey areas, along with nonsurvey areas, if any, having nonappropriated fund employees.”

The municipality of Bayamon does not meet the regulatory criteria under 5 CFR 532.219 to be established as a separate NAF wage area; however, nonsurvey counties may be combined with a survey area to form a wage area. Section 532.219 lists the regulatory criteria that OPM considers when defining FWS wage area boundaries:

(i) Proximity of largest facilities activity in each county;

(ii) Transportation facilities and commuting patterns; and

(iii) Similarities of the counties in:

(A) Overall population;

(B) Private employment in major industry categories; and

(C) Kinds and sizes of private industrial establishments.

Based on an analysis of the regulatory criteria for defining NAF wage areas, OPM is defining the municipality of Bayamon, PR, as an area of application to the Guaynabo-San Juan, PR, NAF FWS wage area. The Guaynabo-San Juan NAF FWS wage area is the only NAF wage area in Puerto Rico. The U.S. Coast Guard Family Housing is located approximately five miles from Fort Buchanan, the wage area's host activity, and the municipality of Bayamon is adjacent to both Fort Buchanan and the municipality of Guaynabo.

In the Guaynabo-San Juan NAF wage area, the survey area will consist of two municipalities (Guaynabo and San Juan) and the area of application will consist of eight municipalities (Aguadilla, Bayamon, Ceiba, Isabela, Ponce, Salinas, Toa Baja, and Vieques) plus the U.S. Virgin Islands of St. Croix and St. Thomas. The Federal Prevailing Rate Advisory Committee, the national labor-management committee responsible for advising OPM on matters concerning the pay of FWS employees, reviewed and recommended this change by consensus.

Waiver of Notice of Proposed Rulemaking and Delay in Effective Date

Pursuant to 5 U.S.C. 553(b)(3)(B) and (d)(3), I find that good cause exists to waive the general notice of proposed rulemaking. Also pursuant to 5 U.S.C. 553(d)(3), I find that good cause exists for making this rule effective in less than 30 days. This notice is being waived and the regulation is being made effective in less than 30 days because it is necessary to define the municipality of Bayamon, PR, to an NAF wage area as soon as possible to cover existing employees under an appropriate wage schedule.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Linda M. Springer,
Director.

Accordingly, the U.S. Office of Personnel Management is amending 5 CFR part 532 as follows:

PART 532—PREVAILING RATE SYSTEMS

1. The authority citation for part 532 continues to read as follows:

Authority: 5 U.S.C. 5343, 5346; 532.707 also issued under 5 U.S.C. 552.

2. Appendix D to subpart B is amended by revising the wage area listing for the Guaynabo-San Juan, Puerto Rico, NAF wage area to read as follows:

Appendix D to Subpart B of Part 532—Nonappropriated Fund Wage and Survey Areas

* * * * *

PUERTO RICO
Guaynabo-San Juan
Survey Area
Puerto Rico: (municipalities):
Guaynabo
San Juan
Area of Application. Survey area plus:
Puerto Rico: (municipalities):
Aguadilla
Bayamon
Ceiba
Isabela
Ponce
Salinas
Toa Baja
Vieques
U.S. Virgin Islands
St. Croix
St. Thomas

* * * * *

[FR Doc. E7-22262 Filed 11-13-07; 8:45 am]

BILLING CODE 6325-39-P